DEPARTMENT OF HOMELAND SECURITY

U.S. Citizenship and Immigration Services

[CIS No. 2457-08; DHS Docket No. USCIS-2008-0036]

RIN 1615-ZA74

Revision of Effective Date for Direct Mail Program for Submitting Form N-400, Application for Naturalization; Withdrawal of Notice

AGENCY: U.S. Citizenship and Immigration Services, DHS.

ACTION: Withdrawal of Notice.

SUMMARY: On September 12, 2008, U.S. Citizenship and Immigration Services (USCIS) published a notice in the Federal Register revising the Direct Mail Program for the filing of Form N-400, Application for Naturalization. The Notice announced that in certain instances Form N-400 would be filed at a USCIS lockbox facility rather than at the USCIS Service Center. The Notice was to take effect on October 14, 2008. USCIS has decided to delay implementation while technical issues are resolved. Accordingly, the Notice published on September 12, 2008, at 73 FR 53034 is withdrawn. Applicants should continue to file their Form N-400 according to the instructions on the form.

DATES: The Notice published on September 12, 2008, at 73 FR 53034 is withdrawn as of October 10, 2008.

FOR FURTHER INFORMATION, CONTACT: Kathleen Stanley, Chief, Lockbox Operations Division, Office of the Chief Financial Officer, U.S. Citizenship and Immigration Services, Department of Homeland Security, 20 Massachusetts Avenue, NW., 4th Floor, Washington, DC 20529, Telephone (202) 272-1969.

Background

On September 12, 2008, USCIS published a Notice in the Federal Register at 73 FR 53034 that announced revisions to its Direct Mail Program so that certain filings of Form N-400, Application for Naturalization, would be filed at a designated lockbox facility instead of a USCIS Service Center.

USCIS is delaying the implementation of this revision to the Direct Mail Program while technical issues are resolved. Until further notice, applicants should submit their Form N-400 according to the instructions on the form. The current filing instructions can also be viewed on the USCIS Web site at http://www.uscis.gov.

When the technical issues are resolved, USCIS will publish a new Notice in the Federal Register to advise the public on the revisions to the filing instructions.

The Federal Register Notice also announced that if you are the spouse of an active member of the Armed Forces, you should file your Form N-400 at the Nebraska Service Center (NSC), whether you are filing from within the U.S. or abroad. Although the Notice is withdrawn, active members of the Armed Forces should continue to file their Form N-400 at the NSC. This is consistent with the current instructions on the Form N-400.

You can find general eligibility requirements for naturalization at our Web site (http://www.uscis.gov). You can also download “A Guide to Naturalization (Form M-476),” which provides information on the benefits and responsibilities of citizenship, an overview of the naturalization process, and eligibility requirements.

October 3, 2008.
Jonathan R. Scharfen,
Acting Director, U.S. Citizenship and Immigration Services.

[FR Doc. E8-24095 Filed 10-9-08; 8:45 am]

BILLING CODE 9111-97-P